DEPARTMENT OF DEFENSE

[OMB Control Number 0704-0229]

Information Collection Requirement; Defense Federal Acquisition Regulation Supplement; Foreign Acquisition

AGENCY: Department of Defense (DoD).

ACTION: Notice and request for comments regarding a proposed extension of an approved information collection requirement.

SUMMARY: In compliance with Section 3506(c)(2)(A) of the Paperwork Reduction Act of 1995 (44 U.S.C. Chapter 35), DoD announces the proposed extension of a public information collection requirement and seeks public comment on the provisions thereof. DoD invites comments on: (a) Whether the proposed collection of information is necessary for the proper performance of the functions of DoD, including whether the information will have practical utility; (b) the accuracy of the estimate of the burden of the proposed information collection; (c) ways to enhance the quality, utility, and clarity of the information to be collected; and (d) ways to minimize the burden of the information collection on respondents, including the use of automated collection techniques or other forms of information technology. The Office of Management and Budget (OMB) has approved this information collection for use through March 31, 2004. DoD proposes that OMB extend its approval for use through March 31, 2007.

DATES: DoD will consider all comments received by January 26, 2004.

ADDRESSES: Respondents may submit comments directly on the Internet at http://emissary.acq.osd.mil/dar/dfars.nsf/pubcomm. As an alternative, respondents may e-mail comments to: dfars@osd.mil. Please cite OMB Control Number 0704-0229 in the subject line of e-mailed comments.

Respondents that cannot submit comments using either of the above methods may submit comments to: Defense Acquisition Regulations Council, Attn: Ms. Amy Williams, OUSD(AT&L)DPAP(DAR), IMD 3C132, 3062 Defense Pentagon, Washington, DC 20301-3062; facsimile (703) 602-0350. Please cite OMB Control Number 0704-0229.

At the end of the comment period, interested parties may view public comments on the Internet at http://emissary.acq.osd.mil/dar/dfars.nsf.

FOR FURTHER INFORMATION CONTACT: Ms. Amy Williams, (703) 602-0328. The information collection requirements addressed in this notice are available electronically via the Internet at: http://www.acq.osd.mil/dp/dars/dfars.html. Paper copies are available from Ms. Amy Williams, OUSD(AT&L)DPAP(DAR), IMD 3C132, 3062 Defense Pentagon, Washington, DC 20301-3062.

SUPPLEMENTARY INFORMATION:

Title, Associated Form, and OMB Number: Foreign Acquisition—Defense Federal Acquisition Regulation Supplement Part 225 and Related Clauses at 252.225; DD Form 2139; OMB Control Number 0704-0229.

Needs and Uses: DoD needs this information to ensure compliance with restrictions on the acquisition of foreign products imposed by statute or policy to protect the industrial base; to ensure compliance with U.S. trade agreements and memoranda of understanding that promote reciprocal trade with U.S. allies; and to prepare reports for submission to the Department of Commerce on the Balance of Payments Program.

Affected Public: Businesses or other for-profit and not-for-profit institutions.

Annual Burden Hours: 352,380 (52,285 reporting hours; 300,095 recordkeeping hours).

Number of Respondents: 22,415.

Responses Per Respondent: Approximately 7.

Number of Responses: 165,134.

Average Burden Per Response: .32 hours.

Frequency: On occasion.

Summary of Information Collection

DFARS 252.225-7000, Buy American Act-Balance of Payments Program Certificate, as prescribed in 225.1101(1), requires an offeror to identify, in its proposal, supplies that are not domestic end products, separately listing qualifying country and other foreign end products.

DFARS 252.225-7003, Report of Intended Performance Outside the United States, and 252.225-7004, Reporting of Contract Performance Outside the United States, as prescribed in 225.7203, require offerors and contractors to report information on subcontracts to be performed outside the United States. The reporting thresholds are $500,000 for contracts exceeding $10 million and the simplified acquisition threshold ($100,000) for contracts exceeding $500,000. The contractor may submit the report on DD Form 2139, Report of Contract Performance Outside the United States, or may use a computer-generated report that contains all information required by DD Form 2139.

DFARS 252.225-7005, Identification of Expenditures in the United States, as prescribed in 225.1103(1), requires contractors incorporated or located in the United States to identify, on each request for payment under contracts for supplies to be used, or for construction or services to be performed, outside the United States, that part of the requested payment representing estimated expenditures in the United States.

DFARS 252.225-7013, Duty-Free Entry, as prescribed in 225.1101(4), replaces three clauses formerly at DFARS 252.225-7009, Duty-Free Entry—Qualifying Country Supplies (End Products and Components), DFARS 252.225-7010, Duty-Free Entry—Additional Provisions, and DFARS 252.225-7037, Duty-Free Entry—Eligible End Products. This new clause requires the contractor to provide information on shipping documents and customs forms regarding products that are eligible for duty-free entry.

DFARS 252.225-7016, Restriction on Acquisition of Ball and Roller Bearings, as prescribed in 225.7009-4(a), requires the contractor to retain records showing compliance with the requirement that ball and roller bearings delivered under the contract be wholly manufactured in the United States or Canada. The contractor must retain the records for 3 years after final payment and must make the records available upon request of the contracting officer. The contractor may request a waiver of this requirement in accordance with DFARS 225.7009-3, which requires the contractor to submit a written plan for transitioning to domestically manufactured bearings, if the waiver is requested under a multiyear contract or a contract exceeding 12 months.

DFARS 252.225-7018, Notice of Prohibition of Certain Contracts with Foreign Entities for the Conduct of Ballistic Missile Defense Research, Development, Test, and Evaluation, as prescribed in 225.7017-4, gives notice of the statutory prohibition on award of a contract to a foreign government or firm, if the contract provides for the conduct of research, development, test, or evaluation in connection with the Ballistic Missile Defense Program. The provision requires an offeror to indicate whether it is or is not a U.S. firm.

DFARS 252.225-7020, Trade Agreements Certificate, as prescribed in 225.1101(5), requires an offeror to list the item number and country of origin of any nondesignated country end product that it intends to furnish under the contract. This provision is used in all solicitations for products subject to the Trade Agreements Act.

DFARS 252.225-7025, Restriction on Acquisition of Forgings, as prescribed in 225.7102-4, requires the contractor to retain records showing compliance with the requirement that end items and their components delivered under the contract contain forging items that are of domestic manufacture only. The contractor must retain the records for 3 years after final payment and must make the records available upon request of the contracting officer. The contractor may request a waiver of this requirement in accordance with DFARS 225.7102-3.

DFARS 252.225-7032, Waiver of United Kingdom Levies—Evaluation of Offers, and 252.225-7033, Waiver of United Kingdom Levies, as prescribed in 225.1101(7) and (8), require an offeror to provide information to the contracting officer regarding any United Kingdom levies included in the offered price, and require the contractor to provide information to the contracting officer regarding any United Kingdom levies to be included in a subcontract that exceeds $1 million, before award of the subcontract.

DFARS 252.225-7035, Buy American Act—North American Free Trade Agreement Implementation Act—Balance of Payments Program Certificate, as prescribed in 225.1101(9), requires an offeror to list any qualifying country, NAFTA country, or other foreign end product that it intends to furnish under the contract.

Michele P. Peterson,
Executive Editor, Defense Acquisition Regulations Council.

[FR Doc. 03-29495 Filed 11-25-03; 8:45 am]

BILLING CODE 5001-08-P